DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat.

List of Petitions Received By EDA for Certification of Eligibility to Apply for Trade Adjustment
[April 1, 2008 through April 30, 2008]
Firm | Address | Date accepted for filing | Products
Kinsley Incorporated | 901 Cross Keys Drive, Doylestown, PA 18902 | 4/22/08 | Manufactures packing equipment, timing screws and change parts.
Nytex Automatic Product, Inc. | 835 Pyka Road, Fredericksburg, TX 78624 | 4/22/08 | Precision machine parts.
Gulf Shrimp, Inc. | P.O. Box 2490, Ft. Meyers Beach, FL 33932 | 4/22/08 | Grades shrimp, processes, packs, and ships to wholesale and retail markets domestically.
Ultravolt Group, Inc. | 1800 Ocean Avenue, Ronkonkoma, NY 11779 | 4/22/08 | High voltage power supplies and components.
Comor, Inc. | 23697 U.S. Highway 322, Cochranton, PA 16314 | 4/22/08 | Plastic injection molding business.
Burke E. Porter Machinery Co. | 730 Plymouth N.E., Grand Rapids, MI 49505 | 3/7/08 | Measuring and checking instruments for automotive assembly line testing.
Hilltop Precision Machining, Inc. | 527 Gitts Run Road, Hanover, PA 17331 | 3/7/08 | Services proved tooling, fixtures, and wear parts of several markets which Include automotive.
Mason Box Company | 521 Mt. Hope Street, North Attleboro, MA 02760 | 3/28/08 | Manufactures custom and stock gift boxes, jewelry boxes, greeting card boxes, candy boxes, security mail boxes and medical lab boxes.
Hancock Lumber Co., Inc. | P.O. Box 299, Casco, Maine 04015 | 3/24/08 | Produce Eastern White Pine lumber and by-products.
Brown Street Furniture, LLC | P.O. Box 278, Whitefield, NH 03598 | 4/2/08 | Produce case goods from a variety of hardwoods.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: April 23, 2008.
William P. Kittredge,
Program Officer for TAA.

[FR Doc. E8-9444 Filed 4-29-08; 8:45 am]

BILLING CODE 3510-24-P